DEPARTMENT OF THE INTERIOR

Bureau of Land Management

[CA-939-04-1610-00]

Notice of Availability of Record of Decision for the California Coastal National Monument Resource Management Plan

AGENCY: Bureau of Land Management, Interior.

ACTION: Notice of availability.

SUMMARY: In accordance with the National Environmental Policy Act (NEPA), the Federal Land Policy and Management Act (FLPMA), the Bureau of Land Management (BLM) management policies, and Presidential Proclamation No. 7264, the BLM announces the availability of the RMP/ROD for the California Coastal National Monument (CCNM) located off the coast of California. The California State Director has signed the RMP/ROD, which becomes effective immediately.

ADDRESSES: Copies of the Resource Management Plan/Record of Decision (RMP/ROD) are available upon request from the Monument Manager, CCNM Office, Bureau of Land Management, 299 Foam Street, Monterey, California or via the Internet at http://www.ca.blm.gov. Copies may also be obtained at: California State Office, 2800 Cottage Way, Sacramento, CA; Hollister Field Office, 20 Hamilton Court, Hollister, CA; Arcata Field Office, 1695 Heindon Road, Arcata, CA; Ukiah Field Office, 2550 North State Street, Ukiah, CA, Bakersfield Field Office, 3801 Pegasus Drive, Bakersfield, CA; Palm Springs/South Coast Field Office, 690 W. Garnet Ave., North Palm Springs, CA; and California Desert District Office, 22835 Calle San Juan de Los Lagos, Moreno Valley, CA.

FOR FURTHER INFORMATION CONTACT: Rick Hanks, (831) 372-6105.

SUPPLEMENTARY INFORMATION: The CCNM RMP provides direction for managing the approximate 1000 acres of offshore rocks, small islands, exposed reefs, and pinnacles that comprise the Monument. The Monument was established by Presidential Proclamation No. 7264 on January 11, 2000, under the authority of the Antiquities Act of 1906. The Monument lies within the jurisdiction of 15 California counties and five BLM field offices, and at least 25% of the coastal portion of the mainland adjacent to the Monument is contained within the California State Parks System. Planning for the Monument officially began with a Federal Register notice on April 24, 2002 initiating scoping. The California Department of Fish and Game, the California Department of Parks and Recreation, the United States Air Force, and the Cher-Ae Heights Indian Community of the Trinidad Rancheria, a federally recognized tribe, are cooperating agencies in the development of this RMP. BLM sought public and governmental participation in the development of this RMP and will continue to pursue partnerships in the management of the Monument. Because of the unique nature of the CCNM, many governmental entities have jurisdiction over resources immediately adjacent to the monument and are integrally important to meeting the goals and objectives for the Monument, as established in the RMP.

Dated: August 5, 2005.
Mike Pool,
State Director.

[FR Doc. 05-17921 Filed 9-8-05; 8:45 am]

BILLING CODE 4310-40-P